DEPARTMENT OF THE INTERIOR

Bureau of Land Management

[MTM-050-1330-ES, MTM-89572]

Notice of Realty Action: Recreation and Public Purposes (R&PP) Act Classification, Madison County, MT

AGENCY: Bureau of Land Management, DOI.

ACTION: Notice.

SUMMARY: The following public lands in Madison County, Montana, have been examined and found suitable for classification for conveyance to the State of Montana through the Montana Heritage Commission under the provisions of the Recreation and Public Purposes Act, as amended (43 U.S.C. 869 et seq.). Montana Heritage Commission proposes to use the lands for historic monument purposes to preserve the historic mining features on the property for interpretation purposes. A narrow gage railroad, built in the 1940s, runs between Nevada City and Virginia City, Montana providing the public with an interpretive tour of the historic mining period and technologies used in the area. The parcel will provide an integral link between the historic towns of Nevada City and Virginia City. The revenues received from the train operation will be used for the operation and maintenance of buildings and artifacts owned by the State of Montana in Virginia City and Nevada City.

Principal Meridian Montana

T. 6S., R. 3W.,

Sec. 21, lot 8; sec. 22, lot 14

Containing 160 acres more or less.

The lands are not needed for Federal purposes. Conveyance of these lands is consistent with current Bureau of Land Management (BLM) land use planning and would be in the public interest. A patent will be issued for these lands. The patent, when issued, will be subject to the following terms, conditions and reservations:

1. Provisions of the Recreation and Public Purposes Act and to all applicable regulations of the Secretary of the Interior.

2. A right-of-way for ditches and canals constructed by the authority of the United States (Act of August 30, 1890).

3. All minerals shall be reserved to the United States, together with the right to prospect for, mine and remove the minerals.

FOR FURTHER INFORMATION CONTACT: Detailed information concerning this action is available for review at the Bureau of Land Management's Dillon Field Office, 1005 Selway Drive, Dillon, Montana 59725-9431.

SUPPLEMENTARY INFORMATION: Upon publication of this notice in the Federal Register, the lands will be segregated from all other forms of appropriation under the public land laws, including the general mining laws and the mineral leasing laws, except for conveyance under the Recreation and Public Purposes Act. For a period of 45 days from the date of publication of this notice in the Federal Register, interested persons may submit comments regarding the classificaiton of the lands or the proposed conveyance to the Field Manager at the address listed above.

Classification Comments: Interested parties may submit comments involving the suitability of the land for historic monument purposes. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for historic monument purposes.

Any adverse comments will be reviewed by the State Director. In the absence of any adverse comments, the classification will become effective 60 days from the date of publication of this notice in the Federal Register.

Mark J. Goeden,
Acting Dillon Field Manager.

[FR Doc. 01-12407 Filed 5-17-01; 8:45 am]

BILLING CODE 4310-84-M